DEPARTMENT OF HEALTH AND HUMAN SERVICES

[Document Identifier: OS-0990-New]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 7, 2022.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Understanding Economic Risk for Low Income Families: Economic Security, Program Benefits, and Decisions about Work.

Type of Collection: New.

OMB No.: 0990-XXXX.

Abstract: The primary purpose of this study is to identify the risks that federal program benefit recipients weigh when faced with an opportunity to increase earnings, including benefit reductions, earnings instability and the ease of regaining lost benefits if needed.

The study will use a discrete choice experiment to explore the importance of these considerations when low-income individuals are presented with a hypothetical opportunity to increase earnings. Statistical analysis will explore interactions between factors and threshold effects. The focus population will be persons currently receiving benefits from at least one of the following programs: Supplemental Nutrition Assistance Program (SNAP), Medicaid/Children's Health Insurance Program (CHIP), housing assistance, Child Care Development Fund (CCDF) subsidies, and/or Temporary Assistance for Needy Families (TANF). The study will explore whether different preferences are exhibited by parents with children and by persons of different races and ethnicities.

The results of this study will provide HHS with a better understanding of the economic risks that people weigh when they make decisions about increasing earnings, which will inform HHS policy and programs at large, and further lines of research around benefit programs and employment decisions.

The length of the request for data collection is one year. The data will be collected once, using primarily a web-based survey, from a sample of low-income persons receiving one or more federal benefit programs. The survey consists of five vignettes presenting different combinations of experimental conditions surrounding a hypothetical earnings increase. In each vignette, respondents will be presented with a scenario where a hypothetical individual is presented with an opportunity to increase their earnings (by accepting a higher hourly wage); consequences of the earnings increase for his or her receipt of benefits; the risk of going back down to the lower, original hourly wage at a later time; and the prospect of re-applying for lost benefits. Respondents will be asked to review the vignette and choose whether they think the hypothetical individual should accept the earnings increase. In addition, the questionnaire includes follow-up questions for each vignette/experimental condition, and a set of demographic questions.

Annualized Burden Hour Table
Number of respondents | Number of responses per respondents | Average burden per response | Total burden hours
Approximately 2,000 | 1 | 20/60 | 667

Sherrette A. Funn,
Paperwork Reduction Act Reports Clearance Officer, Office of the Secretary.

[FR Doc. 2021-28466 Filed 1-3-22; 8:45 am]

BILLING CODE 4150-05-P